DEPARTMENT OF DEFENSE

Office of the Secretary

[Transmittal No. 24-29]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-29, Policy Justification, and Sensitivity of Technology.

Dated: May 20, 2025.
Stephanie J. Bost,
Alternate OSD Federal Register Liaison Officer, Department of Defense.

BILLING CODE 6001-FR-P

Transmittal No. 24-29

Notice of Proposed Issuance of Letter of Offer Pursuant to Section 36(b)(1) of the Arms Export Control Act, as amended

(i) Prospective Purchaser: Government of Poland

(ii) Total Estimated Value:

Major Defense Equipment * | $1.52 billion
Other | $ .17 billion
TOTAL | $1.69 billion

Funding Source: National Funds

(iii) Description and Quantity or Quantities of Articles or Services under Consideration for Purchase:

Major Defense Equipment (MDE):

Up to seven hundred forty-five (745) AIM-120C-8 Advanced Medium Range Air-to-Air Missiles (AMRAAM)

Up to sixteen (16) AIM-120C-8 AMRAAM Guidance Sections

Fifty (50) LAU-129 Guided Missile Launchers

Non-MDE:

Also included are AIM-120 Captive Air Training Missiles, missile containers, and control section spares; Common Munitions Built-in-Test Reprogramming Equipment; ADU-891 Adapter Group Test Sets; munitions support and support equipment; spare and repair parts, consumables, accessories, and repair and return support; contract logistics support; classified software delivery and support; classified and unclassified publications and technical documentation; personnel training and training support; transportation support; studies and surveys; United States (U.S.) Government and contractor engineering, technical, and logistical support services; and other related elements of logistics and program support.

(iv) Military Department: Air Force (PL-D-YAF)

(v) Prior Related Cases, if any: PL-D-YAE, PL-D-QAV

(vi) Sales Commission, Fee, etc., Paid, Offered, or Agreed to be Paid: None known at this time

(vii) Sensitivity of Technology Contained in the Defense Article or Defense Services Proposed to be Sold: See Attached Annex

(viii) Date Report Delivered to Congress: March 12, 2024

* as defined in Section 47(6) of the Arms Export Control Act.

POLICY JUSTIFICATION

Poland—AIM-120C-8 Advanced Medium-Range Air-to-Air Missiles

The Government of Poland has requested to buy up to seven hundred forty-five (745) AIM-120C-8 Advanced Medium Range Air-to-Air Missiles (AMRAAM), up to sixteen (16) AIM-120C-8 AMRAAM guidance sections, and fifty (50) LAU-129 Guided Missile Launchers. Also included are AIM-120 Captive Air Training Missiles, missile containers, and control section spares; Common Munitions Built-in-Test Reprogramming Equipment; ADU-891 Adapter Group Test Sets; munitions support and support equipment; spare and repair parts, consumables, accessories, and repair and return support; contract logistics support; classified software delivery and support; classified and unclassified publications and technical documentation; personnel training and training support; transportation support; studies and surveys; U.S. Government and contractor engineering, technical, and logistical support services; and other related elements of logistics and program support. The estimated total cost is $1.69 billion.

This proposed sale will support the foreign policy goals and national security objectives of the U.S. by improving the security of a NATO Ally that is a force for political stability and economic progress in Europe.

The proposed sale will improve Poland's capability to meet current and future threats by ensuring it has modern, capable air-to-air munitions. This sale will further advance the already high level of Polish Air Force interoperability with U.S. Joint Forces and other regional and NATO forces. The Government of Poland already has AMRAAMs in its inventory and will have no difficulty absorbing these articles and services into its armed forces.

The proposed sale of this equipment and support will not alter the basic military balance in the region.

The principal contractor will be RTX Corporation, Tucson, AZ. There are no known offset agreements proposed in connection with this potential sale.

Implementation of this proposed sale will not require the assignment of any additional U.S. Government or contractor representatives to the Government of Poland.

There will be no adverse impact on U.S. defense readiness as a result of this proposed sale.

Transmittal No. 24-29

Notice of Proposed Issuance of Letter of Offer Pursuant to Section 36(b)(1) of the Arms Export Control Act

Annex

Item No. vii

(vii) Sensitivity of Technology:

1. The AIM-120C-8 Advanced Medium Range Air-to-Air Missile (AMRAAM) is a supersonic, air-launched, aerial intercept guided missile featuring digital technology and micro-miniature, solid-state electronics. AMRAAM capabilities include look-down and shoot-down, multiple launches against multiple targets, resistance to electronic countermeasures, and interception of high and low-flying and maneuvering targets. This potential sale will include Captive Air Training Missiles, AMRAAM guidance section spares and control section spares, and LAU-129 guided missile launchers.

2. The Common Munitions Built-In-Test (BIT)/Reprogramming Equipment (CMBRE) is supporting equipment used to interface with weapon systems to initiate and report BIT results and to upload and download flight software. CMBRE supports multiple munitions platforms with a range of applications that perform preflight checks, periodic maintenance checks, loading of Operational Flight Program data, loading of munitions mission planning data, loading of Global Positioning System (GPS) cryptographic keys, and declassification of munitions memory.

3. The ADU-891 Adapter Group Test Set provides the physical and electrical interface between the CMBRE and the missile.

4. The highest level of classification of defense articles, components, and services included in this potential sale is SECRET.

5. If a technologically advanced adversary were to obtain knowledge of the specific hardware and software elements, the information could be used to develop countermeasures that might reduce weapon system effectiveness or be used in the development of a system with similar or advanced capabilities.

6. A determination has been made that Poland can provide substantially the same degree of protection for the sensitive technology being released as the U.S. Government. This sale is necessary in furtherance of the U.S. foreign policy and national security objectives outlined in the Policy Justification.

7. All defense articles and services listed in this transmittal have been authorized for release and export to Poland.

[FR Doc. 2025-09346 Filed 5-22-25; 8:45 am]

BILLING CODE 6001-FR-C